SUSQUEHANNA RIVER BASIN COMMISSION

Public Hearing

AGENCY: Susquehanna River Basin Commission.

ACTION: Notice.

SUMMARY: The Susquehanna River Basin Commission will hold a public hearing on May 6, 2021. Due to the COVID-19 situation and the relevant orders in place in the Commission's member jurisdictions, the Commission will hold this hearing telephonically. At this public hearing, the Commission will hear testimony on the projects listed in the SUPPLEMENTARY INFORMATION section of this notice. The Commission will also hear testimony on a proposed rulemaking and three proposed policies at this hearing. Such projects and proposals are intended to be scheduled for Commission action at its next business meeting, tentatively scheduled for June 17, 2021, which will be noticed separately. The public should take note that this public hearing will be the only opportunity to offer oral comment to the Commission for the listed projects and proposals. The deadline for the submission of written comments is May 17, 2021.

DATES: The public hearing will convene on May 6, 2021, at 6:30 p.m. The public hearing will end at 9:00 p.m. or at the conclusion of public testimony, whichever is sooner. The deadline for the submission of written comments is May 17, 2021.

ADDRESSES: This hearing will be held by telephone rather than at a physical location. Conference Call # 1-888-387-8686, Conference Room Code # 9179686050.

FOR FURTHER INFORMATION CONTACT: Jason Oyler, General Counsel and Secretary to the Commission, telephone: (717) 238-0423; fax: (717) 238-2436. Information concerning the applications for these projects is available at the Commission's Water Application and Approval Viewer at https://www.srbc.net/waav. Additional supporting documents are available to inspect and copy in accordance with the Commission's Access to Records Policy at www.srbc.net/regulatory/policies-guidance/docs/access-to-records-policy-2009-02.pdf.

SUPPLEMENTARY INFORMATION: The public hearing will cover a proposed rulemaking and three proposed groundwater-related policies, posted at www.srbc.net, under “What's New”, click on the link for the “Proposed Rulemaking.” The public hearing will also cover the following projects:

Projects Scheduled for Action

1. Project Sponsor and Facility: ARD Operating, LLC (West Branch Susquehanna River), Piatt Township, Lycoming County, Pa. Modification to update flow protection rates to be in accordance with current Low Flow Protection Policy No. 2012-01 (Docket No. 20120601).

2. Project Sponsor and Facility: Beech Resources, LLC (Lycoming Creek), Lycoming Township, Lycoming County, Pa. Application for surface water withdrawal of up to 1.500 mgd (peak day).

3. Project Sponsor: CAN DO, Inc. Project Facility: Humbolt Industrial Park, Hazle Township, Luzerne County, Pa. Applications for renewal of groundwater withdrawals (30-day averages) of up to 0.187 mgd from Humbolt Well 1, up to 0.187 mgd from Humbolt Well 3, up to 0.230 mgd from Humbolt Well 7, up to 0.144 mgd from Humbolt Well 8, and up to 0.230 mgd from Humbolt Well 9 (Docket No. 19960501).

4. Project Sponsor and Facility: Geneva Farm Golf Course, Inc., Dublin District, Harford County, Md. Application for renewal of consumptive use of up to 0.099 mgd (30-day average) (Docket No. 19910104).

5. Project Sponsor and Facility: Greenfield Township Municipal Authority, Greenfield Township, Blair County, Pa. Application for groundwater withdrawal of up to 0.499 mgd (30-day average) from Well PW-4.

6. Project Sponsor and Facility: Pennsylvania State University, College Township, Centre County, Pa. Applications for renewal of groundwater withdrawal of up to 0.960 mgd (30-day average) from Well UN-37 and consumptive use of up to 0.960 mgd (peak day) (Docket No. 19890106-1).

7. Project Sponsor and Facility: PPG Operations LLC (West Branch Susquehanna River), Goshen Township, Clearfield County, Pa. Application for surface water withdrawal of up to 3.000 mgd (peak day).

8. Project Sponsor and Facility: Quarryville Borough Authority, Quarryville Borough, Lancaster County, Pa. Application for renewal of groundwater withdrawal of up to 0.250 mgd (30-day average) from Well 2 (Docket No. 19931102).

9. Project Sponsor and Facility: SUEZ Water Owego-Nichols Inc., Village of Owego and Town of Owego, Tioga County, N.Y. Applications for groundwater withdrawals (30-day averages) of up to 0.880 mgd from Well 1, up to 1.115 mgd from Well 3, and up to 0.710 mgd from Well 4.

10. Project Sponsor: Weaverland Valley Authority. Project Facility: Blue Ball Water System, East Earl Township, Lancaster County, Pa. Application for groundwater withdrawal of up to 0.144 mgd (30-day average) from Well 4 as well as recognizing historic withdrawals from wells 1, 2 and 3.

Project Scheduled for Action Involving a Diversion

1. Project Sponsor and Facility: City of Aberdeen, Harford County, Md. Modifications to extend the approval term of the consumptive use, surface water withdrawal, and out-of-basin diversion approval (Docket No. 20021210) to allow additional time for evaluation of the continued use of the source for the Aberdeen Proving Ground—Aberdeen Area.

Commission-Initiated Project Approval Modification

1. Project Sponsor and Facility: Municipal Authority of the Borough of Mansfield, Richmond Township, Tioga County, Pa. Conforming the grandfathered amount with the forthcoming determination for a withdrawal from Webster Reservoir up to 0.311 mgd (30-day average) (Docket No. 20130609).

2. Project Sponsor and Facility: Williamsport Municipal Water Authority, Williamsport City, Lycoming County, Pa. Conforming the grandfathered amounts with the forthcoming determination for withdrawals (30-day averages) from Well 3 up to 0.940 mgd, from Well 4 up to 0.940 mgd, from Well 5 up to 2.141 mgd, from Well 6 up to 0.687 mgd, from Well 7 up to 2.254 mgd, from Well 8 up to 0.987 mgd, from Well 9 up to 0.800 mgd, from Mosquito Creek up to 6.833 mgd, and from Hagermans Run up to 4.926 mgd (Docket No. 20110628).

Opportunity To Appear and Comment

Interested parties may call into the hearing to offer comments to the Commission on any business listed above required to be the subject of a public hearing. Given the telephonic nature of the meeting, the Commission strongly encourages those members of the public wishing to provide oral comments to pre-register with the Commission by emailing Jason Oyler at joyler@srbc.net prior to the hearing date. The presiding officer reserves the right to limit oral statements in the interest of time and to otherwise control the course of the hearing. Access to the hearing via telephone will begin at 6:15 p.m. Guidelines for the public hearing are posted on the Commission's website, www.srbc.net, prior to the hearing for review. The presiding officer reserves the right to modify or supplement such guidelines at the hearing. Written comments on any business listed above required to be the subject of a public hearing may also be mailed to Mr. Jason Oyler, Secretary to the Commission, Susquehanna River Basin Commission, 4423 North Front Street, Harrisburg, Pa. 17110-1788, or submitted electronically through https://www.srbc.net/regulatory/public-comment/. Comments mailed or electronically submitted must be received by the Commission on or before May 17, 2021, to be considered.

Authority: Pub. L. 91-575, 84 Stat. 1509 et seq., 18 CFR parts 806, 807, and 808.

Dated: April 7, 2021.
Jason E. Oyler,
General Counsel and Secretary to the Commission.

[FR Doc. 2021-07476 Filed 4-12-21; 8:45 am]

BILLING CODE 7040-01-P